DEPARTMENT OF THE INTERIOR

Bureau of Land Management

[OR-027-1020-PI-020H; G-06-0060]

Notice of Public Meetings for the Steens Mountain Advisory Council

AGENCY: Bureau of Land Management, Department of the Interior.

ACTION: Notice of public meetings.

SUMMARY: In accordance with the Steens Mountain Cooperative Management and Protection Act of 2000, the Federal Land Policy and Management Act, and the Federal Advisory Committee Act of 1972, the U.S. Department of the Interior, Bureau of Land Management, Steens Mountain Advisory Council will meet as indicated below.

DATES: The Steens Mountain Advisory Council will meet at the Bureau of Land Management Burns District Office, 28910 Highway 20 West, Hines, Oregon, 97738, on March 16 and 17, 2006; August 24 and 25, 2006; October 12 and 13, 2006; and December 7 and 8, 2006. A meeting in Bend, Oregon, at the Comfort Inn and Suites, 62065 SE 27th Street, will be held May 11 and 12, 2006. All meeting sessions will begin at 8 a.m., local time, and will end at approximately 4:30 p.m., local time.

SUPPLEMENTARY INFORMATION: The Steens Mountain Advisory Council was appointed by the Secretary of the Interior on August 14, 2001 pursuant to the Steens Mountain Cooperative Management and Protection Act of 2000 (Pub. L. 106-399) and re-chartered in August 2003 and again in August 2005. The Steens Mountain Advisory Council's purpose is to provide representative counsel and advice to the Bureau of Land Management regarding: new and unique approaches to management of the land within the bounds of the Steens Mountain Cooperative Management and Protection Area; cooperative programs and incentives for landscape management that meet human needs, maintain and improve the ecological and economic integrity of the area; and preparation and implementation of a management plan for the Steens Mountain Cooperative Management and Protection Area.

Topics to be discussed by the Steens Mountain Advisory Council at these meetings include the Steens Mountain Cooperative Management and Protection Area Travel, Comprehensive Recreation, Implementation, and Monitoring Plans; North Steens Ecosystem Restoration Project Environmental Impact Statement and project implementation; Wildlands Juniper Management Area projects and partnerships; Steens Mountain Wilderness and Wild and Scenic Rivers Plan; categories of interest such as wildlife, special designated areas, partnerships/programs, cultural resources, education, volunteer-based information, adaptive management, and socioeconomics; and other matters that may reasonably come before the Steens Mountain Advisory Council.

All meetings are open to the public in their entirety. Information to be distributed to the Steens Mountain Advisory Council is requested prior to the start of each Steens Mountain Advisory Council meeting. Public comment is generally scheduled for 11 a.m. to 11:30 a.m., local time, both days of each meeting session. The amount of time scheduled for public presentations and meeting times may be extended when the authorized representative considers it necessary to accommodate all who seek to be heard regarding matters on the agenda.

FOR FURTHER INFORMATION CONTACT: Rhonda Karges, Management Support Specialist, Burns District Office, 28910 Highway 20 West, Hines, Oregon, 97738, (541) 573-4400 or Rhonda_Karges@or.blm.gov.

Dated: January 30, 2006.
Dana R. Shuford,
Burns District Manager.

[FR Doc. E6-1576 Filed 2-3-06; 8:45 am]

BILLING CODE 4310-33-P